NUCLEAR REGULATORY COMMISSION

[Docket No. 50-289; NRC-2009-0097]

Exelon Generation Company, LLC Three Mile Island Nuclear Station, Unit 1 Environmental Assessment and Finding of No Significant Impact

The U.S. Nuclear Regulatory Commission (NRC) is considering issuance of exemptions from Title 10 of the Code of Federal Regulations (10 CFR) Part 50, Appendix R, Section III.G, “Fire Protection of Safe Shutdown Capability,” for the use of operator manual actions in lieu of the requirements specified in Section III.G.2 as requested by Exelon Generation Company, LLC (the licensee, formerly AmerGen Energy Company, LLC), for operation of Three Mile Island Nuclear Station, Unit 1 (TMI-1), located in Dauphin County, Pennsylvania. Therefore, as required by 10 CFR 51.21, the NRC is issuing this environmental assessment and finding of no significant impact.

Environmental Assessment

Identification of the Proposed Action

The proposed action would grant exemptions to 10 CFR part 50, Appendix R, Section III.G.2 based on two operator manual actions contained in the licensee's Fire Protection Program (FPP). The licensee's FPP requires that the identified operator manual actions be performed outside of the control room to achieve shutdown following fires in certain fire areas. The licensee states that each of the manual actions were subjected to a manual action feasibility review for TMI-1 that determined that the manual actions are feasible and can be reliably performed.

The proposed action is in accordance with the licensee's application dated February 4, 2008, as supplemented on January 28, 2009, Agencywide Documents Access and Management System (ADAMS) accession numbers ML080350369 and ML090280577, respectively. In the January 28, 2009, supplement, the licensee withdrew one of the three originally proposed manual actions from the exemption request, since they have determined that action is no longer required.

The Need for the Proposed Action

The proposed exemption from 10 CFR part 50, Appendix R, was submitted in response to the need for an exemption as identified by NRC Regulatory Information Summary (RIS) 2006-10, “Regulatory Expectations with Appendix R Paragraph III.G.2 Operator Manual Actions.” The RIS noted that NRC inspections identified that some licensees had relied upon operator manual actions, instead of the options specified in Paragraph 10 CFR part 50, Appendix R, III.G.2, as a permanent solution to resolve issues related to Thermo-Lag 330-1 fire barriers. The licensee indicates that the operator manual actions, referenced in the February 4, 2008 application, were previously included in correspondence with the NRC and found acceptable in a fire protection-related Safety Evaluation (SE) dated September 7, 1988, ADAMS accession number 8809150224. However, RIS 2006-10 identifies that an exemption under 10 CFR 50.12 is necessary for use of the manual actions in lieu of the requirements of 10 CFR part 50, Appendix R, III.G.2, even if the NRC previously issued an SE that found the manual actions acceptable. The proposed exemption provides the formal vehicle for NRC approval for the use of the specified operator manual actions instead of the options specified in 10 CFR part 50, Appendix R, III.G.2.

Environmental Impacts of the Proposed Action

The NRC staff evaluated the manual operator actions presented in the proposed exemption in an NRC SE dated September 7, 1988, (ADAMS accession number 8809150224) and found that they maintained a safe shutdown capability that satisfies the requirements of 10 CFR 50, Appendix R, III.G. In addition, the licensee supplemented the February 4, 2008 request for exemption on January 28, 2009, with additional information to confirm that the operator manual actions addressed in the 1988 SE for which the exemptions are sought, are feasible and that the safety basis for these actions remains valid. Therefore, the proposed action will not significantly increase the probability or consequences of accidents. No changes are being made in the types of effluents that may be released off site. There is no significant increase in the amount of any effluent released off site. There is no significant increase in occupational or public radiation exposure. Therefore, there are no significant radiological environmental impacts associated with the proposed action. The NRC staff, thus, concludes that granting the proposed exemption would result in no significant radiological environmental impact.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement Related to the Operation of Three Mile Island Nuclear Station, Units 1 and 2, NUREG-0552, dated December 1972.

Agencies and Persons Consulted

In accordance with its stated policy, on January 30, 2009, the NRC staff consulted with the Pennsylvania State official, Michael Murphy of the Pennsylvania State Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 4, 2008, as supplemented on January 28, 2009, ADAMS accession numbers ML080350369 and ML090280577, respectively. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 24th day of February 2009.
For the Nuclear Regulatory Commission.
Peter Bamford,
Project Manager, Plant Licensing Branch I-2, Division of Operating Reactor Licensing, Office of Nuclear Reactor Regulation.

[FR Doc. E9-4565 Filed 3-3-09; 8:45 am]

BILLING CODE 7590-01-P